DEPARTMENT OF ENERGY

Federal Energy Regulatory Commission

[Project No. 15409-000]

Zachary Miller; Notice of Preliminary Permit Application Accepted for Filing and Soliciting Comments, Motions To Intervene, and Competing Applications

On July 9, 2025, Zachary Miller filed an application for a preliminary permit, pursuant to section 4(f) of the Federal Power Act (FPA), proposing to study the feasibility of the Miller Micro-Hydroelectric Project No. 15409 (project), to be located on an unnamed stream on Chichagof Island, in the Hoonah-Angoon Census Area, near the community of Elfin Cove, Alaska. The sole purpose of a preliminary permit, if issued, is to grant the permit holder priority to file a license application during the permit term. A preliminary permit does not authorize the permit holder to perform any land-disturbing activities or otherwise enter upon lands or waters owned by others without the owners' express permission.

The proposed project would consist of the following: (1) a six-foot-long, 5-foot-wide, 5-foot-high concrete and wood water catchment/intake system with a stainless steel screen; (2) a 3,500-foot-long, four-inch-diameter high-density polyethylene penstock; (3) a 20-foot-long, 20-foot-wide wood powerhouse containing one 25-kilowatt Pelton turbine-generator unit; (4) a 40-foot-long, 3-foot-wide wood and concrete tailrace; (5) a 360-foot-long, 220-volt transmission line connecting the turbine-generator unit to the Elfin Cove Utility Commission's local grid; and (6) appurtenant facilities.

The proposed project would have an estimated average annual generation of 131.4 megawatt-hours. The project would be located on federal lands managed by the US. Forest Service in the Tongass National Forest.

Applicant Contact: Zachary Miller, P.O. Box 5, Elfin Cove, AK 99825; phone: (760) 390-9369.

FERC Contact: John Matkowski; phone: (202) 502-8576, or by email at john.matkowski@ferc.gov.

Deadline for filing comments, motions to intervene, competing applications (without notices of intent), or notices of intent to file competing applications: on or before 5:00 p.m. Eastern Time on March 16, 2026. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15409-000.

For public inquiries and assistance with making filings such as interventions, comments, or requests for rehearing, contact the Office of Public Participation at (202) 502-6595 or OPP@ferc.gov.

More information about this project, including a copy of the application, can be viewed on the Commission's website (http://www.ferc.gov) using the “eLibrary” link. Enter the docket number, excluding the last three digits (P-15409), in the docket number field to access the document. For assistance, contact FERC Online Support.

(Authority: 18 CFR 2.1)

Dated: January 15, 2026.
Debbie-Anne A. Reese,
Secretary.

[FR Doc. 2026-01075 Filed 1-20-26; 8:45 am]

BILLING CODE 6717-01-P